DEPARTMENT OF AGRICULTURE

Animal and Plant Health Inspection Service

[Docket No. APHIS-2010-0065]

Notice of Decision To Issue Permits for the Importation of Fresh Mango Fruit From Pakistan Into the Continental United States

AGENCY: Animal and Plant Health Inspection Service, USDA.

ACTION: Notice.

SUMMARY: We are advising the public of our decision to begin issuing permits for the importation into the continental United States of fresh mango fruit from Pakistan. Based on the findings of a pest risk analysis, which we made available to the public for review and comment through a previous notice, we believe that the application of one or more designated phytosanitary measures will be sufficient to mitigate the risks of introducing or disseminating plant pests or noxious weeds via the importation of fresh mango fruit from Pakistan.

DATES: Effective Date: August 27, 2010.

FOR FURTHER INFORMATION CONTACT: Ms. Donna L. West, Senior Import Specialist, Regulatory Coordination and Compliance, PPQ, APHIS, 4700 River Road Unit 133, Riverdale, MD 20737; (301) 734-0627.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on June 17, 2010 (75 FR 34422, Docket No. APHIS-2010-0065), in which we announced the availability, for review and comment, of a pest risk analysis that evaluates the risks associated with the importation into the continental United States of fresh mango fruit from Pakistan. We solicited comments on the notice for 60 days ending on August 16, 2010. We received 19 comments by that date, from nurseries, exporters, private citizens, a marketing agency, and a State department of agriculture. All of the commenters supported the importation of fresh mango fruit from Pakistan under the conditions described in the risk management document.

¹ To view the notice, the pest risk analysis, the risk management analysis, and the comments we received, go to http://www.regulations.gov/fdmspublic/component/main?main=DocketDetail&d=APHIS-2010-0065.

Therefore, in accordance with the regulations in § 319.56-4(c)(2)(ii), we are announcing our decision to begin issuing permits for the importation into the continental United States of fresh mango fruit from Pakistan subject to the following phytosanitary measures:

• The mangoes must be irradiated with a minimum absorbed dose of 400 gray.

• If irradiation is applied outside of the United States, each consignment of mangoes must be inspected jointly by the national plant protection organization (NPPO) of Pakistan and APHIS inspectors and accompanied by a phytosanitary certificate issued by the NPPO of Pakistan. The phytosanitary certificate must document that the consignment received the required irradiation treatment. The phytosanitary certificate must also contain an additional declaration that states: “This consignment was inspected jointly by APHIS and Government of Pakistan inspectors, and found free of Xanthomonas campestris pv. mangiferaeindicae.” To be consistent with International Plant Protection Convention standards, treatment specifics, including the application of 400 Gy dose, will be located in the treatment section of the phytosanitary certificate, rather than in the additional declaration.

If irradiation is to be applied upon arrival in the United States, each consignment of mangoes must be inspected by inspectors from the NPPO of Pakistan prior to departure and accompanied by a phytosanitary certificate issued by the NPPO of Pakistan. The phytosanitary certificate must contain an additional declaration that states: “This consignment was inspected by the Government of Pakistan inspectors and found free of Xanthomonas campestris pv. mangiferaeindicae.”

• The mangoes may be imported into the United States in commercial consignments only.

These conditions will be listed in the Fruits and Vegetables Import Requirements Database (available at http://www.aphis.usda.gov/favir). In addition to those specific measures, mangoes from Pakistan will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 25th day of August 2010.
Gregory Parham,
Acting Administrator, Animal and Plant Health Inspection Service.

[FR Doc. 2010-21568 Filed 8-26-10; 8:45 am]

BILLING CODE 3410-34-P